DEPARTMENT OF THE INTERIOR

Bureau of Land Management

[LLNMF02000-L14400000.EU0000 223L1109AF]

Notice of Realty Action: Non-Competitive Direct Sale for the Disposal of 1.4 Acres of Public Land in Rio Arriba County, NM

AGENCY: Bureau of Land Management, Department of the Interior.

ACTION: Notice of realty action.

SUMMARY: The Bureau of Land Management (BLM) is offering to sell a 1.4-acre parcel of public land at not less than the appraised fair market value of $14,000 to Gilbert Borrego through a non-competitive (direct) sale to resolve an unauthorized use of public lands. The sale is subject to the applicable provisions of the Federal Land Policy and Management Act of 1976, as amended (FLPMA), and the BLM land sale and mineral conveyance regulations.

DATES: Interested parties may submit written comments regarding the direct sale by November 14, 2022.

ADDRESSES: Send written comments to the BLM Field Manager, Taos Field Office, 226 Cruz Alta Road, Taos, New Mexico 87571.

FOR FURTHER INFORMATION CONTACT: BLM Realty Specialist Mark T. Lujan at (575) 751-4747, or mtlujan@blm.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM proposes to conduct a direct sale for the following public land located in the unincorporated community of Lyden in Rio Arriba County, New Mexico. Lyden is north of Española, New Mexico, along the Rio Grande. The parcel of public land is legally described as:

Tract 24B within the Sebastian Martin Grant, Rio Arriba County, New Mexico.

The area described contains 1.4 acres. Upon publication of this notice, these public lands will be segregated from all forms of appropriation under the public land laws, including the mining laws, except for the sale provisions of FLPMA. Upon publication of this notice, and until completion of the sale, the BLM will no longer accept land use applications affecting these public lands. The segregation will terminate upon issuance of a patent, publication in the Federal Register of a termination of the segregation, or on September 30, 2024, unless extended by the BLM New Mexico State Director in accordance with 43 CFR 2711.1-2(d) prior to the termination date.

The BLM proposes this direct sale of approximately 1.4 acres of public land to Mr. Gilbert Borrego in Rio Arriba County, New Mexico, to resolve an inadvertent trespass in accordance with a settlement agreement entered between the United States of America vs. Gilbert Borrego (12-cv-434-JB-GBW) in Federal District Court. An environmental assessment (EA) has been prepared to evaluate criteria under FLPMA section 203(a)(3) and 43 CFR 2710.0-3(a)(2) that the disposal of such tract will serve important public objectives. Under section 203 of FLPMA, a tract of public land may be sold if the tract meets the disposal criteria of that section as determined through the land use planning process. The public land in question has been identified as suitable for disposal by direct sale in the BLM Taos Resource Management Plan, appendix F, pages 190 through 192, dated May 24, 2012, because of its inadvertent unauthorized use or occupancy, as determined by the authorized officer. Furthermore, the subject tract, because of its location and other characteristics, is difficult and uneconomic to manage as part of the public lands and is not suitable for management by another Federal department or agency. The parcel is not required for any other Federal purpose. Regulations contained in 43 CFR 2711.3-3(a)(1) make allowances for direct sales when a competitive sale is not appropriate, and the public interest would be best served by a direct sale.

As noted earlier, the BLM has prepared an EA, DOI-BLM-NM-F020-2021-0018-EA, for the non-competitive direct sale and has made it available for comment. The comment period on the EA will end concurrently with the close of the comment period associated with this Notice of Realty Action. The EA, environmental site assessment, mineral potential report, map, and approved appraisal report will be made available for review at the Taos Field Office at the address in the ADDRESSES section and online at the BLM e-Planning website at: https://eplanning.blm.gov/eplanning-ui/project/2015283/510.

The BLM proposes a non-competitive direct sale because it serves an important local public objective of facilitating the settlement agreement for the inadvertent trespass. The public land will not be offered for sale prior to 45 days from the date of publication of this notice in the Federal Register. The patent, if issued, would be subject to the following terms, conditions, and reservations:

1. A reservation for any right-of-way thereon for ditches or canals constructed by the authority of the United States, Act of August 30, 1890.

2. The parcel is subject to all valid existing rights.

3. The purchaser, by accepting the patent, agrees to an indemnification clause protecting the United States from claims arising out of the patentee's use, occupancy, or occupations on the patented lands.

The BLM prepared a mineral potential report dated October 30, 2020, which concluded there are no known mineral values in the land. The mineral estate should be transferred simultaneously with the surface under the authority of Section 209 of FLPMA.

The BLM New Mexico State Director or other authorized official of the Department of the Interior will review adverse comments regarding the parcel and may sustain, vacate, or modify this realty action, in-whole or in-part. In the absence of timely objections, this realty action will become the final determination of the Department of the Interior.

In addition to publication in the Federal Register, the BLM will also publish this notice in the New Mexican, once a week, for 3 consecutive weeks.

Before including your address, phone number, email address, or other personal identifying information in your comment, you should be aware that your entire comment, including your personal identifying information, may be made publicly available at any time. While you can ask us in your comment to withhold your personal identifying information from public review, we cannot guarantee that we will be able to do so. Only written comments to the Field Manager, BLM Taos Field Office, will be considered properly filed.

(Authority: 43 CFR 2711.1-2(a) and (c).)

Steven R. Wells,
Associate State Director.

[FR Doc. 2022-21285 Filed 9-29-22; 8:45 am]

BILLING CODE 4331-23-P